DEPARTMENT OF JUSTICE

8 CFR Ch. V

21 CFR Ch. I

27 CFR Ch. II

28 CFR Ch. I, V

Regulatory Agenda

AGENCY: Department of Justice.

ACTION: Semiannual regulatory agenda.

SUMMARY: The Department of Justice is publishing its fall 2014 regulatory agenda pursuant to Executive Order 12866, “Regulatory Planning and Review,” 58 FR 51735, and the Regulatory Flexibility Act, 5 U.S.C. 601 to 612 (1988).

FOR FURTHER INFORMATION CONTACT: Robert Hinchman, Senior Counsel, Office of Legal Policy, Department of Justice, Room 4252, 950 Pennsylvania Avenue NW., Washington, DC 20530, (202) 514-8059.

SUPPLEMENTARY INFORMATION: This edition of the Unified Agenda of Federal Regulatory and Deregulatory Actions includes The Regulatory Plan, which appears in both the online Unified Agenda and in part II of the Federal Register that includes the Unified Agenda. The Department of Justice's Statement of Regulatory Priorities is included in the Plan.

Beginning with the fall 2007 edition, the Internet has been the basic means for disseminating the Unified Agenda. The complete Unified Agenda will be available online at www.reginfo.gov in a format that offers users a greatly enhanced ability to obtain information from the Agenda database.

Because publication in the Federal Register is mandated for the regulatory flexibility agendas required by the Regulatory Flexibility Act (5 U.S.C. 602), the Department of Justice's printed agenda entries include only:

Rules that are in the Agency's regulatory flexibility agenda, in accordance with the Regulatory Flexibility Act, because they are likely to have a significant economic impact on a substantial number of small entities; and any rules that the Agency has identified for periodic review under section 610 of the Regulatory Flexibility Act.

Printing of these entries is limited to fields that contain information required by the Regulatory Flexibility Act's Agenda requirements. Additional information on these entries is available in the Unified Agenda published on the Internet. In addition, for fall editions of the Agenda, the entire Regulatory Plan will continue to be printed in the Federal Register, as in past years, including the Department of Justice's regulatory plan.

Dated: September 24, 2014
Elana Tyrangiel,
Principal Deputy Assistant Attorney General, Office of Legal Policy.

Drug Enforcement Administration—Completed Actions
Sequence No. | Title | Regulation Identifier No.
353 | Disposal of Controlled Substances | 1117-AB18

DEPARTMENT OF JUSTICE (DOJ)

Drug Enforcement Administration (DEA)

Completed Actions

353. Disposal of Controlled Substances

Legal Authority: 21 U.S.C. 821; 21 U.S.C. 822; 21 U.S.C. 823; 21 U.S.C. 827; 21 U.S.C. 828; 21 U.S.C. 871; 21 U.S.C. 958

Abstract: This action would finalize requirements governing the safe and secure disposal of controlled substances by DEA registrants and ultimate users. This final rule would implement the Secure and Responsible Drug Disposal Act of 2010 by providing ultimate users safe and convenient options to transfer controlled substances for the purpose of disposal. The rule would reorganize and consolidate existing regulations concerning disposal (including the role of reverse distributors) and establish a comprehensive regulatory framework for the collection and destruction of controlled substances consistent with the Controlled Substances Act.

Completed:

Reason | Date | FR Cite
Final Action | 09/09/14 | 79 FR 53520
Final Action Effective | 10/09/14 |

Regulatory Flexibility Analysis Required: Yes.

Agency Contact: Ruth A. Carter, Phone: 202 598-6812.

RIN: 1117-AB18

[FR Doc. 2014-28981 Filed 12-19-14; 8:45 am]

BILLING CODE 4410-BP-P